DEPARTMENT OF COMMERCE

International Trade Administration

[A-570-893]

Certain Frozen Warmwater Shrimp From the People's Republic of China: Preliminary Results of Antidumping Duty Administrative Review and Preliminary Determination of No Shipments; 2018-2019

AGENCY: Enforcement and Compliance, International Trade Administration, Department of Commerce.

SUMMARY: The Department of Commerce (Commerce) preliminarily finds that exporters of certain frozen warmwater shrimp (shrimp) from the People's Republic of China (China) sold subject merchandise in the United States at prices below normal value during the period of review (POR) February 1, 2018 through January 31, 2019. We invite all interested parties to comment on these preliminary results.

DATES: Applicable March 5, 2020.

FOR FURTHER INFORMATION CONTACT: Jasun Moy or Kabir Archuletta, AD/CVD Operations, Office V, Enforcement and Compliance, International Trade Administration, U.S. Department of Commerce, 1401 Constitution Avenue NW, Washington, DC 20230; telephone: (202) 482-8194, or (202) 482-2593, respectively.

SUPPLEMENTARY INFORMATION:

Background

On May 2, 2019, Commerce initiated an administrative review of the antidumping duty order on shrimp from China, in accordance with section 751(a) of the Tariff Act of 1930, as amended (the Act).¹ The administrative review covers one mandatory respondent, Shantou Red Garden Food Processing Co., Ltd. (Shantou RGFP),² and 87 other companies that were not selected for individual examination. For details regarding the events that occurred subsequent to the initiation of the review, see the Preliminary Decision Memorandum.³

¹ See Initiation of Antidumping and Countervailing Duty Administrative Reviews, 84 FR 18777 (May 2, 2019).

² On February 28, 2020, we preliminary found that Shantou RGFP, as it currently exists, is not the successor-in-interest to Red Garden Food Processing Co., Ltd.; see Memorandum, “Antidumping Duty Administrative Review of Certain Frozen Warmwater Shrimp from the People's Republic of China: Preliminary Successor-In-Interest Determination,” dated February 28, 2020.

³ See Memorandum, “Decision Memorandum for the Preliminary Results of the Antidumping Duty Administrative Review of Certain Frozen Warmwater Shrimp from the People's Republic of China; 2018-2019,” dated concurrently with, and hereby adopted by, this notice (Preliminary Decision Memorandum).

Pursuant to section 751(a)(3)(A) of the Act, Commerce determined that it was not practicable to complete the preliminary results of this review within the 245 days and postponed the preliminary results by 120 days.⁴ The revised deadline for the preliminary results in this review is February 28, 2020.

⁴ See Memorandum, “Frozen Warmwater Shrimp from the People's Republic of China: Extension of Deadline for Preliminary Results of Antidumping Duty Administrative Review,” dated September 24, 2019; see also Memorandum, “Frozen Warmwater Shrimp from the People's Republic of China: Second Extension of Deadline for Preliminary Results of Antidumping Duty Administrative Review,” dated December 16, 2019.

Scope of the Order

The scope of the order includes certain frozen warmwater shrimp and prawns, whether wild caught (ocean harvested) or farm raised (produced by aquaculture), head on or head off, shell on or peeled, tail on or tail off, deveined or not deveined, cooked or raw, or otherwise processed in frozen form. The products are currently classifiable under the Harmonized Tariff Schedule of the United States (HTSUS) subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS subheadings are provided for convenience and for customs purposes; the written product description of the scope of the order remains dispositive. For a full description of the scope, see the Preliminary Decision Memorandum.⁵

⁵ See Preliminary Decision Memorandum at 3-5.

Methodology

Commerce is conducting this review in accordance with section 751(a)(1)(B) of the Act. We calculated export prices in accordance with section 772 of the Act. Because China is a non-market economy (NME) within the meaning of section 771(18) of the Act, normal value has been calculated in accordance with section 773(c) of the Act.

For a full description of the methodology underlying our conclusions, see the Preliminary Decision Memorandum. A list of the topics included in the Preliminary Decision Memorandum is included in Appendix I to this notice. The Preliminary Decision Memorandum is a public document and is made available to the public via Enforcement and Compliance's Antidumping and Countervailing Duty Centralized Electronic Service System (ACCESS). ACCESS is available to registered users at https://access.trade.gov, and to all parties in the Central Records Unit, room B8024 of the main Commerce building. In addition, a complete version of the Preliminary Decision Memorandum is available at http://enforcement.trade.gov/frn/. The signed and electronic versions of the Preliminary Decision Memorandum are identical in content.

Separate Rates

Commerce preliminarily determines that information placed on the record by Shantou RGFP demonstrates that this entity is entitled to separate rate status.⁶ For additional information, see the Preliminary Decision Memorandum.

⁶ See Shantou RGFP's November 12, 2019 Section A Questionnaire Response at 2-10; see also Shantou RGFP's December 23, 2019 Supplemental Questionnaire Response at 3-14.

Preliminary Determination of No Shipments

Three companies that received a separate rate in previous segments of this proceeding and are subject to this review reported that they did not have any exports of subject merchandise during the POR.⁷ To date, we have not received any contrary information from either U.S. Customs and Border Protection (CBP) in response to our inquiry or any other sources that these companies had any shipments of the subject merchandise sold to the United States during the POR.⁸ Further, consistent with our practice in NME cases, we find that it is not appropriate to rescind the review with respect to these companies but, rather, to complete the review and issue appropriate instructions to CBP based on the final results of review.⁹

⁷ See Allied Pacific's Letter, “Certain Frozen Warmwater Shrimp from the People's Republic of China: Notice of No Shipments,” dated May 10, 2019 (submitted on behalf of Allied Pacific Aquatic Products (Zhanjiang) Co., Ltd., Allied Pacific Food (Dalian) Co., Ltd., and Allied Pacific (HK) Co., Ltd.).

⁸ See Memorandum, “No Shipment Inquiry with Respect to the Companies Below During the Period 02/01/2018 through 01/31/2019,” dated July 15, 2019.

⁹ See Non-Market Economy Antidumping Proceedings: Assessment of Antidumping Duties, 76 FR 65694, 65694-95 (October 24, 2011).

China-Wide Entity

Commerce's policy regarding conditional review of the China-wide entity applies to this administrative review.¹⁰ Under this policy, the China-wide entity will not be under review unless a party specifically requests, or Commerce self-initiates, a review of the entity. Because no party requested a review of the China-wide entity in this review, the entity is not under review and the entity's rate is not subject to change (i.e., 112.81 percent).¹¹ Aside from the no-shipment and separate rate companies discussed above, Commerce considers all other companies for which a review was requested (none of which filed a separate rate application) to be part of the China-wide entity.¹² This includes Shantou Yuexing Enterprise Company (SYEC), a company that is under review that had previously been granted a separate rate ¹³ but that failed to submit either a no-shipment certification or a separate rate certification in this review. Accordingly, we preliminarily find that SYEC, as well as the additional companies identified in Appendix II, should be treated as part of the China-wide entity.

¹⁰ See Antidumping Proceedings: Announcement of Change in Department Practice for Respondent Selection in Antidumping Duty Proceedings and Conditional Review of the Nonmarket Economy Entity in NME Antidumping Duty Proceedings, 78 FR 65963 (November 4, 2013).

¹¹ See Certain Frozen Warmwater Shrimp from the People's Republic of China: Final Results of Antidumping Duty Administrative Review; 2012-2013, 79 FR 57872 (September 26, 2014).

¹² See Initiation of Antidumping and Countervailing Duty Administrative Reviews, 84 FR 18777, 18777-78, (May 2, 2019) (“All firms listed below that wish to qualify for separate rate status in the administrative reviews involving NME countries must complete, as appropriate, either a separate rate application or certification, as described below.”). Companies that are subject to this administrative review that are considered to be part of the China-wide entity are identified in Appendix II.

¹³ See, e.g., Certain Frozen Warmwater Shrimp from the People's Republic of China: Final Results of Antidumping Duty Administrative Review; 2013-2014, 79 FR 75533 (December 18, 2014).

Preliminary Results of the Review

Commerce preliminarily determines that the following weighted-average dumping margin exists for the period February 1, 2018 through January 31, 2019:

Exporter | Weighted-average dumping margin (percent)
Shantou Red Garden Food Processing Co., Ltd | 58.61

Verification

As provided in section 782(i)(3)(B) of the Act, if possible, Commerce intends to verify certain information relied upon in making its final results, because we find that good cause exists to verify the questionnaire responses of Shantou RGFP.¹⁴

¹⁴ See Preliminary Decision Memorandum. In addition, the Ad Hoc Shrimp Trade Action Committee (the petitioner) requested verification of Shantou RGFP's questionnaire responses under section 782(i)(3)(A) and (B) of the Act. See Petitioner's Letter, “Request for Verification and Comments on Shantou RGFP's Supplemental Section A Response,” dated December 31, 2019, at 2-3.

Disclosure and Public Comment

Commerce intends to disclose the calculations performed for these preliminary results to the parties within five days of the date of publication of this notice, in accordance with 19 CFR 351.224(b). Commerce will establish a deadline for interested parties to submit case briefs and rebuttal briefs at a later date.¹⁵ Pursuant to 19 CFR 351.309(c)(2) and (d)(2), parties who submit case briefs or rebuttal briefs in this proceeding are encouraged to submit with each argument: (1) A statement of the issue; (2) a brief summary of the argument; and (3) a table of authorities.

¹⁵ See 19 CFR 351.309(c)(1)(ii) and 351.309(d)(1).

Pursuant to 19 CFR 351.310(c), interested parties who wish to request a hearing must submit a written request to the Assistant Secretary for Enforcement and Compliance, filed electronically via ACCESS. An electronically filed document must be received successfully in its entirety by 5:00 p.m. Eastern Time within 30 days after the date of publication of this notice. Requests should contain: (1) The party's name, address, and telephone number; (2) the number of participants; (3) whether any participant is a foreign national; and (4) a list of issues parties intend to discuss. Issues raised in the hearing will be limited to those raised in the respective case and rebuttal briefs.¹⁶ If a request for a hearing is made, Commerce intends to hold the hearing at the U.S. Department of Commerce, 1401 Constitution Avenue NW, Washington, DC 20230, at a date and time to be determined.¹⁷ Parties should confirm by telephone the date, time, and location of the hearing two days before the scheduled date.

¹⁶ See 19 CFR 351.310(c).

¹⁷ See 19 CFR 351.310(d).

Unless otherwise extended, Commerce intends to issue the final results of this administrative review, which will include the results of its analysis of issues raised in any briefs, within 120 days of publication of these preliminary results, pursuant to section 751(a)(3)(A) of the Act and 19 CFR 351.213(h).

Assessment Rates

Upon issuance of the final results, Commerce shall determine, and CBP shall assess, antidumping duties on all appropriate entries covered by this review. If Shantou RGFP's weighted-average dumping margin is not zero or de minimis (i.e., less than 0.50 percent) in the final results of this review, Commerce will calculate importer-specific assessment rates, in accordance with 19 CFR 351.212(b)(1).¹⁸ For Shantou RGFP, Commerce intends to calculate an importer-specific per-unit assessment rate by dividing the amount of dumping for reviewed sales to the importer by the total sales quantity associated with those transactions. We will instruct CBP to assess antidumping duties on all appropriate entries covered by this review when the importer-specific assessment rate calculated in the final results of this review is not zero or de minimis. If Shantou RGFP's weighted-average dumping margin is zero or de minimis, we will instruct CBP to liquidate the appropriate entries without regard to antidumping duties. In accordance with section 751(a)(2)(C) of the Act, the final results of this review shall be the basis for the assessment of antidumping duties on entries of merchandise covered by this review where applicable.

¹⁸ See Antidumping Proceedings: Calculation of the Weighted Average Dumping Margin and Assessment Rate in Certain Antidumping Proceedings: Final Modification, 77 FR 8101 (February 14, 2012).

For entries that were not reported in the U.S. sales data submitted by companies individually examined during this review, Commerce will instruct CBP to liquidate such entries at the rate for the China-wide entity.¹⁹ Additionally, if Commerce determines that an exporter under review had no shipments of the subject merchandise, any suspended entries that entered under that exporter's case number (i.e., at that exporter's cash deposit rate) will be liquidated at the rate for the China-wide entity.²⁰ We intend to issue instructions to CBP 15 days after the publication date of the final results of this review.

¹⁹ Id.

²⁰ Id.

Cash Deposit Requirements

The following cash deposit requirements will be effective for all shipments of the subject merchandise entered, or withdrawn from warehouse, for consumption on or after the publication date of the finals results of this administrative review, as provided by section 751(a)(2)(C) of the Act: (1) The cash deposit rate for Shantou RGFP will be the rate established in the final results of this review (except, if the ad valorem rate is de minimis, then the cash deposit rate will be zero); (2) for previously investigated or reviewed Chinese and non-Chinese exporters not listed above that have received a separate rate in a prior segment of this proceeding, the cash deposit rate will continue to be the existing exporter-specific cash deposit rate published for the most recently completed period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

This administrative review and notice are issued and published in accordance with sections 751(a)(1) and 777(i)(1) of the Act, and 19 CFR 351.213 and 351.221(b)(4).

Dated: February 28, 2020.
Jeffrey I. Kessler,
Assistant Secretary for Enforcement and Compliance.

Appendix I

List of Topics Discussed in the Preliminary Decision Memorandum

I. Summary

II. Background

III. Scope of the Order

IV. Preliminary Determination of No Shipments

V. Discussion of the Methodology

VI. Recommendation

Appendix II

Companies Preliminarily Receiving the China-Wide Rate ²¹

²¹ We removed all companies that are excluded from the order even though entries that are not exporter-producer specific to the exclusion language would fall under the China-wide entity.

Asian Seafoods (Zhanjiang) Co., Ltd.

Beihai Anbang Seafood Co., Ltd.

Beihai Boston Frozen Food Co., Ltd.

Beihai Tianwei Aquatic Food Co. Ltd.

Changli Luquan Aquatic Products Co., Ltd.

Dalian Beauty Seafood Company Ltd.

Dalian Haiqing Food Co., Ltd.

Dalian Home Sea International Trading Co., Ltd.

Dalian Rich Enterprise Group Co., Ltd.

Dalian Shanhai Seafood Co., Ltd.

Dalian Taiyang Aquatic Products Co., Ltd.

Dandong Taihong Foodstuff Co., Ltd.

Food Processing Co., Ltd.

Fujian Chaohui Aquatic Food Co., Ltd.

Fujian Chaohui Group

Fujian Chaohui International Trading Co., Ltd.

Fujian Dongshan County Shunfa Aquatic Product Co., Ltd.

Fujian Dongya Aquatic Products Co., Ltd.

Fujian Fuding Seagull Fishing Food Co., Ltd.

Fujian Hainason Trading Co., Ltd.

Fujian Haohui Import & Export Co., Ltd.

Fujian Rongjiang Import and Export Co., Ltd.

Fujian Zhaoan Haili Aquatic Co., Ltd.

Fuqing Chaohui Aquatic Food Co., Ltd.

Fuqing Dongwei Aquatic Products Ind.

Fuqing Dongwei Aquatic Products Industry Co., Ltd.

Fuqing Longhua Aquatic Food Co., Ltd.

Fuqing Minhua Trade Co., Ltd.

Fuqing Yihua Aquatic Food Co., Ltd.

Guangdong Foodstuffs Import & Export (Group) Corporation.

Guangdong Gourmet Aquatic Products Co., Ltd.

Guangdong Jinhang Food Co., Ltd.

Guangdong Universal Aquatic Food Co. Ltd.

Guangdong Wanshida Holding Corp.

Guangdong Wanya Foods Fty. Co., Ltd.

HaiLi Aquatic Product Co., Ltd. Zhaoan Fujian.

Hainan Brich Aquatic Products Co., Ltd.

Hainan Golden Spring Foods Co., Ltd.

Huazhou Xinhai Aquatic Products Co. Ltd.

Leizhou Bei Bu Wan Sea Products Co., Ltd.

Longhai Gelin Foods Co., Ltd.

Maoming Xinzhou Seafood Co., Ltd.

New Continent Foods Co., Ltd.

North Seafood Group Co.

Penglai Huiyang Foodstuff Co., Ltd.

Qingdao Fusheng Foodstuffs Co., Ltd.

Qingdao Yihexing Foods Co., Ltd.

Qinhuangdao Gangwan Aquatic Products Co., Ltd.

Rizhao Rongxing Co. Ltd.

Rizhao Smart Foods Company Limited.

Rongcheng Yinhai Aquatic Product Co., Ltd.

Rushan Chunjiangyuan Foodstuffs Co.

Rushan Chunjiangyuan Foodstuffs Co., Ltd.

Savvy Seafood Inc.

Shanghai Zhoulian Foods Co., Ltd.

Shantou Freezing Aquatic Product Foodstuffs Co.

Shantou Jiazhou Food Industrial Co., Ltd.

Shantou Jintai Aquatic Product Industrial Co., Ltd.

Shantou Longsheng Aquatic Product Foodstuff Co., Ltd.

Shantou Ocean Best Seafood Corporation.

Shantou Ruiyuan Industry Co., Ltd.

Shantou Wanya Foods Fty. Co., Ltd.

Shantou Yuexing Enterprise Company.

Thai Royal Frozen Food Zhanjiang Co., Ltd.

Xiamen Granda Import and Export Co., Ltd.

Yangjiang Dawu Aquatic Products Co., Ltd.

Yangjiang Haina Datong Trading Co.

Yantai Wei Cheng Food Co., Ltd.

Yantai Wei-Cheng Food Co., Ltd.

Zhangzhou Donghao Seafoods Co., Ltd.

Zhangzhou Xinwanya Aquatic Product Co., Ltd.

Zhangzhou Yanfeng Aquatic Product & Foodstuff Co., Ltd.

Zhanjiang Evergreen Aquatic Product Science and Technology Co., Ltd.

Zhanjiang Fuchang Aquatic Products Freezing Plant.

Zhanjiang Longwei Aquatic Products Industry Co., Ltd.

Zhanjiang Newpro Foods Co., Ltd.

Zhanjiang Universal Seafood Corp.

Zhaoan Yangli Aquatic Co., Ltd.

Zhejiang Xinwang Foodstuffs Co., Ltd.

Zhoushan Genho Food Co., Ltd.

Zhoushan Green Food Co., Ltd.

[FR Doc. 2020-04513 Filed 3-4-20; 8:45 am]

BILLING CODE 3510-DS-P